ENVIRONMENTAL PROTECTION AGENCY

[OPP-2004-0061; FRL-7348-7]

Pesticide Registration Improvement Act of 2003; Notice of Public Workshop

AGENCY: Environmental Protection Agency (EPA).

ACTION: Notice

SUMMARY: EPA's Office of Pesticide Programs will hold a public workshop on March 11, 2004. An agenda is being developed and will be posted by March 4, 2004, on EPA's website. This meeting will focus on the Agency's efforts to implement the new enhanced registration service fee program created as part of the Pesticide Registration Improvement Act of 2003.

DATES: The workshop will be held on Thursday, March 11, 2004, from 9 a.m. to 4 p.m.

ADDRESSES: The workshop will be held at the National Rural Electric Cooperative Association (NRECA) Conference Center, 4301 Wilson Boulevard, Arlington, VA; telephone number: (703) 907-5500. The NRECA Conference Center is located approximately 3 blocks from the Ballston Metro Station and about a 15 minute taxi ride from Ronald Reagan Washington National Airport.

FOR FURTHER INFORMATION: Richard Keigwin, Office of Pesticide Programs (7501C), Environmental Protection Agency, 1200 Pennsylvania Ave., NW., Washington, DC 20460-0001; telephone number: (703) 305-7618; fax number: (703) 308-4776; e-mail address: keigwin.richard@epa.gov.

SUPPLEMENTARY INFORMATION:

I. General Information

A. Does this Action Apply to Me?

This action is directed to the public in general; however, persons may be interested who work in agricultural settings or persons who are concerned about implementation of the Federal Insecticide, Fungicide, and Rodenticide Act (FIFRA); the Federal Food, Drug, and Cosmetic Act (FFDCA); and the amendments to both of these major pesticide laws by the Food Quality Protection Act (FQPA), (Public Law 104-170) of 1996. Since other entities may also be interested, the Agency has not attempted to describe all the specific entities that may be affected by this action. If you have any questions regarding the applicability of this action to a particular entity, consult the person listed under FOR FURTHER INFORMATION CONTACT. Potentially affected entities may include but are not limited to: Agricultural workers and farmers; pesticide industry and trade associations; environmental, consumer and farmworker groups; pesticide users and growers; pest consultants; State, local, and tribal governments; academia; public health organizations; food processors; and the public. If you have any questions regarding the applicability of this action to a particular entity, consult the person listed under FOR FURTHER INFORMATION CONTACT.

B. How Can I Get Copies of this Document and Other Related Information?

1. Docket. EPA has established an official public docket for this action under docket identification (ID) number OPP-2004-0061 The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. An agenda for the meeting will be posted by March 4, 2004, on EPA's Website at http://www.epa.gov/pesticides/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Background

The Consolidated Appropriations Act of 2004, signed by President Bush on January 23, 2004, established a new section 33 of FIFRA, under which EPA is required to establish a registration service fee system for applications for pesticide registration and amended registration. Under that system, fees will be charged for new applications for registration received on or after the effective date of the statute (March 23, 2004), and for certain applications received before that date. EPA is required to render a decision on the application within the decision times specified. The fee system is authorized until September 30, 2010, although the decision times under the system do not apply after September 30, 2008.

List of Subjects

Environmental protection, Agriculture, Agricultural workers, Chemicals, Fees, Foods, Pesticides and pests, Registration, Tolerance reassessment, Public health.

Dated: February 25, 2004.
James Jones,
Director, Office of Pesticide Programs.

[FR Doc. 04-4813 Filed 3-1-04; 11:45 am]

BILLING CODE 6560-50-S